DEPARTMENT OF THE INTERIOR

Fish and Wildlife Service

Draft Environmental Assessment on Management of Mute Swans in the Atlantic Flyway

AGENCY: Fish and Wildlife Service, Interior.

ACTION: Notice of availability.

SUMMARY: This notice advises the public that a Draft Environmental Assessment on the Management of Mute Swans in the Atlantic Flyway is available for public review. Comments and suggestions are requested.

DATES: You must submit comments on the Draft Environmental Assessment by July 16, 2003.

ADDRESSES: Copies of the Draft Environmental Assessment (DEA) can be obtained by writing to U.S. Fish and Wildlife Service, Division of Migratory Bird Management, 4401 North Fairfax Drive, Mail Stop MBSP-4107, Arlington, VA 22203. The DEA may also be viewed on the Fish and Wildlife Service home page at http://migratory birds.fws.gov. Written comments can be sent to the address above, or emailed to MuteSwanEA@fws.gov. All comments must include the name and full mailing address of the person submitting the comments. All comments received, including names and addresses, will become part of the public record. You may inspect comments during normal business hours at the address above.

FOR FURTHER INFORMATION CONTACT: John L. Trapp, (703) 358-1965.

SUPPLEMENTARY INFORMATION: The purpose of the DEA is to determine how to respond to applications for permits to take mute swans (Cygnus olor) under authority of the Migratory Bird Treaty Act for the purpose of minimizing the environmental damage that they can cause. The DEA (1) reviews the history, population status, and trends of mute swans in the Atlantic Flyway; (2) summarizes the history of mute swan population management; (3) assesses the effects of mute swans on wetland habitats, native species of fish and wildlife, and human interests; and (4) evaluates the need for continuing management of mute swans in the Atlantic Flyway to minimize environmental damage. Four alternatives, including the proposed action, are considered.

Steve Williams,
Director, Fish and Wildlife Service.

[FR Doc. 03-16699 Filed 7-1-03; 8:45 am]

BILLING CODE 4310-55-P